DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2008 New York City Housing and Vacancy Survey.

Form Number(s): H-100, H-105, H-108, H-100(L), H-100L(A).

Agency Approval Number: 0607-0757.

Type of Request: Reinstatement, with change, of a previously approved collection.

Burden: 10,175 hours.

Number of Respondents: 20,500.

Average Hours Per Response: 27 minutes.

Needs and Uses: The U.S. Census Bureau requests approval to conduct the 2008 New York City Housing and Vacancy Survey (NYCHVS). The Census Bureau will conduct this survey for the New York City Department of Housing Preservation and Development (NYCHPD). Pursuant to the Local Emergency Housing Rent Control Act (Chapter 8603, Laws of New York, 1963, as amended by Chapter 657, Laws of New York, 1967) and Sections 26-414 and 26-415 of the Administrative Code of the City, a survey is required in order to determine the supply, condition, and vacancy rate of housing in the city. The NYCHPD must take this survey every three years. The Census Bureau has conducted this survey for the city since 1962, most recently in 2002 under the authority of Title 13 U.S.C., section 8b.

Census Bureau interviewers will conduct personal visit interviews for a sample of housing units in the City, the vast majority of which are rental units in multi-unit rental structures (apartment buildings). Single-family rental or owner-occupied units (houses), however, are not excluded from the sample. Census will interview residents (occupied units) or other knowledgeable people such as a building manager, superintendent, or rental or real estate agent (vacant units) to gather information on vacancy rates, housing costs, and the income of residents. About ten percent of the sample will be reinterviewed for quality control purposes. Census will also determine primarily by observation whether a separate sample of units previously lost from the City's housing inventory have been reconverted for residential use.

The 2008 NYCHVS will be an up-to-date and comprehensive data source required by rent control laws as well as a source of data needed to evaluate the city's housing policies. Specifically, the city will look to the 2008 survey to provide accurate and reliable estimates of the rental and homeowner vacancy rates, to measure improvements in housing and neighborhood conditions, and to provide data on low-income, doubled-up, and crowded households at risk of becoming homeless. The city will use the results to develop programs and policies that aim to improve housing conditions.

Affected Public: Individuals or households, business or other for-profit organizations.

Frequency: Every three years.

Respondent's Obligation: Voluntary.

Legal Authority: Title 13 U.S.C., Section 8b.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: May 23, 2007.
Gwellnar Banks,
Management Analyst, Office of the Chief Information Officer.

[FR Doc. E7-10333 Filed 5-29-07; 8:45 am]

BILLING CODE 3510-07-P